DEPARTMENT OF AGRICULTURE

Forest Service

Eastern Arizona Resource Advisory Committee

AGENCY: Forest Service, USDA.

ACTION: Notice of meeting.

SUMMARY: The Eastern Arizona Resource Advisory Committee will meet in Springerville, Arizona. The committee is authorized under the Secure Rural Schools and Community Self-Determination Act (Pub. L 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 18, 2012, beginning at 10:30 a.m. until 5 p.m., and continue if necessary, on September 19, 2012, beginning at 9:00 a.m.until approximately 4 p.m.

ADDRESSES: The meeting will be held at the Apache-Sitgreaves National Forests Supervisor's Office conference room, located at 30 South Chiricahua Drive, Springerville, Arizona 85938. Written comments may be submitted as described under Supplementary Information. All comments, including names and addresses when provided, are placed in the record and are available for public inspection and copying. The public may inspect comments received at the Apache-Sitgreaves National Forests Supervisor's Office, located at 30 South Chiricahua Drive, Springerville, Arizona 85938. Please call ahead to 928 333-6261 to facilitate entry into the building to view comments.

FOR FURTHER INFORMATION CONTACT: Joe Vieth, RAC Program Coordinator, Eastern Arizona Resource Advisory Committee, Apache-Sitgreaves National Forests, telephone 928 333-6261 or jvieth@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: the Resource Advisory Committee will review and recommend funding of project proposals. Anyone who would like to bring related matters to the attention of the committee may file written statements with the committee staff before the meeting. The agenda will include time for people to make oral statements of three minutes or less. Individuals wishing to make an oral statement should request in writing by September 10, 2012 to be scheduled on the agenda. Written comments and requests for time for oral comments must be sent to Apache-Sitgreaves National Forests, P.O. Box 640, Springerville, AZ 85938, or by email to jvieth@fs.fed.us, or via facsimile to 928 333-5966. A summary of the meeting will be posted at https://fs.fed.us/fsfiles/unitwo/secure_rural_schools.nsf within 21 days of the meeting.

Meeting Accommodations: If you require sign language interpreting, assistive listening devices or other reasonable accommodation please request this in advance of the meeting by contacting the person listed in the section titled For Further Information Contact. All reasonable accommodation requests are managed on a case by case basis.

Dated: August 16, 2012.
James E. Zornes,
Forest Supervisor.

[FR Doc. 2012-20850 Filed 8-27-12; 8:45 am]

BILLING CODE 3410-11-P